DEPARTMENT OF LABOR

Office of the Secretary

Submission for OMB Review; Comment Request

February 8, 2000.

The Department of Labor (DOL) has submitted the following public information collection request (ICR) to the Office of Management and Budget (OMB) for review and approval in accordance with the Paperwork Reduction Act of 1995 (Pub. L. 104-13, 44 U.S.C. Chapter 35). A copy of the ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OHSA, and VETS contact Darrin King ((202) 219-5096 ext. 151 or by E-mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g, permitting electronic submission of responses.

Agency: Employment and Training Administration.

Title: Governor's Requests for Advances from the Federal Unemployment Account or Requests for Voluntary Repayment of Such Advances.

OMB Number: 1205-0199.

Affected Public: State, Local, or Tribal Government.

Frequency: On Occasion.

Number of Respondents: 1.

Estimated time per respondent: 1 Hour.

Total burden hours: 1 Hour.

Description: The process through which States request advances from the Federal Unemployment Account in the Unemployment Trust Fund and make voluntary repayments of the advances to the Federal Unemployment Account.

Ira L. Mills,
Departmental Clearance Officer.

[FR Doc. 00-3508 Filed 2-14-00; 8:45 am]

BILLING CODE 4510-30-M